OFFICE OF THE UNITED STATES TRADE REPRESENTATIVE

[Docket No. WTO/DS-58]

WTO Dispute Settlement Proceeding Regarding Section 609 of Public Law 101-162 Relating to the Protection of Sea Turtles in Shrimp Trawl Fishing Operations

AGENCY: Office of the United States Trade Representative.

ACTION: Notice; request for comments.

SUMMARY: The Office of the United States Trade Representative (USTR) is providing notice that the government of Malaysia has requested the establishment of a dispute a settlement panel under the Marrakesh Agreement Establishing the World Trade Organization (WTO) to examine whether the United States has implemented the recommendations and rulings of the WTO Dispute Settlement Body (DSB) in a dispute involving import restrictions under section 609 of Public Law 101-162 (Section 609). Section 609 is intended to promote the conservation of endangered sea turtle species by restricting the importation of shrimp and shrimp products harvested by methods harmful to sea turtles. Interested persons are invited to submit written comments concerning the issues raised in the dispute.

DATES: Although USTR will accept any submissions received during the course of the dispute settlement proceedings, comments should be submitted on or before November 30, 2000 to be assured of timely consideration by USTR in preparing its first written submission to the panel.

ADDRESSES: Comments may be submitted to Sandy McKinzy, Monitoring and Enforcement Unit, Office of the General Counsel, Room 122, Office of the United States Trade Representative, 600 17th Street, NW., Washington, DC 20508, Attn: Dispute Regarding U.S. Sea Turtle Conservation Law. Telephone: (202) 395-3582.

FOR FURTHER INFORMATION CONTACT: Kira Alvarez, Director for Marine Resources and Regional Affairs, (202) 395-7320, or William Busis, Associate General Counsel, (202) 395-3150. For questions concerning the operation of U.S. import restrictions under Section 609, please contact David Hogan, Office of Marine Conservation, Bureau of Oceans and International Environmental and Scientific Affairs, Department of State, Washington DC, telephone number (202) 647-2335.

SUPPLEMENTARY INFORMATION:

Prior WTO Proceedings

On November 6, 1998, the WTO DSB adopted the reports of a dispute settlement panel and the WTO Appellate Body in a case brought by India, Malaysia, Pakistan and Thailand challenging U.S. restrictions on shrimp imports under section 609. The Appellate Body report found that section 609 itself was not inconsistent with U.S. obligations under the WTO Agreement and was, in fact, covered by the WTO provision relating to the conservation of exhaustible natural resources. At the same time, however, the Appellate Body report found that certain aspects of the manner in which section 609 was being implemented, in their cumulative effect, were inconsistent with U.S. obligations under the WTO Agreement. The Appellate Body report recommended that the United States revise its implementation of section 609 accordingly.

At the time the dispute settlement panel was established, USTR published a notice inviting public comments on the issues in the dispute. See 62 FR 13,934 (March 24, 1997). The dispute settlement panel and Appellate Body reports are publicly available in the USTR reading room and on the WTO web site (www.wto.org).

U.S. Implementation

In November 1998, and after consultations with Congress and other stakeholders, the United States notified the DSB that the United States intended to implement the recommendations and rulings of the DSB in a manner which is consistent not only with U.S. WTO obligations, but also with the firm commitment of the United States to the protection of endangered sea turtles.

The United States and the other parties to the dispute reached agreement on 13 months as a reasonable period for implementation. The 13-month period ended in December 1999.

In March 1999, the Department of State, which administers section 609, published a notice summarizing steps being taken to implement the DSB recommendations and rulings, and requesting comments on proposed revisions to the guidelines used for making certifications under section 609. See 64 FR 14,481 (March 25, 1999). In July 1999, the Department of State published a notice reviewing and responding to the comments received on its March 1999 notice, and setting forth revised section 609 guidelines. See 64 FR 36,946 (July 8, 1999).

In January 2000, the United States informed the DSB that the United States had implemented the recommendations and rulings of the DSB during the 13-month implementation period. The United States explained that the implementation steps had both responded to the issues raised by the Appellate Body report, and—with the cooperation of the countries in the Indian Ocean region—had advanced efforts to conserve endangered sea turtles. Those implementation steps included the revisions to the Department of State guidelines, efforts to negotiate an agreement with the governments of the Indian Ocean region on the protection of sea turtles, and renewed offers of technical training in sea turtle conservation measures.

Article 21.5 Proceeding

On October 23, 2000, the Government of Malaysia—one of the four complaining parties in the prior WTO proceeding—requested that the DSB establish a panel under Article 21.5 of the WTO Understanding on Rules and Procedures Governing the Settlement of Disputes (DSU) to examine whether the United States had implemented the recommendations and rulings of the DSB. Malaysia is claiming that implementation of the DSB recommendations and rulings required the U.S. to remove the import restrictions imposed under section 609.

The DSB has established a dispute settlement panel to consider Malaysia's claim. As provided under the DSU, the panel is composed of the same members as in the prior proceeding. The panel is scheduled to issue its report in mid-March, 2001. Pursuant to an understanding between the United States and Malaysia, either party may request that the WTO Appellate Body review the report of the dispute settlement panel.

The European Communities and the governments of Japan, Ecuador, Australia, India, Thailand, Canada, Mexico, Pakistan, and Hong Kong, China have indicated their interest to participate in the dispute as third parties.

Invitation for Comments

Interested persons are invited to submit written comments concerning the issues raised in the dispute. Comments must be in English and provided in fifteen copies. A person requesting that information contained in a comment submitted by that person be treated as confidential business information must certify that such information is business confidential and would not customarily be released to the public by the commenter. Confidential business information must be clearly marked “BUSINESS CONFIDENTIAL” in a contrasting color ink at the top of each page of each copy.

Information or advice contained in a comment submitted, other than business confidential information, may be determined by USTR to be confidential in accordance with section 135(g)(2) of the Trade Act of 1974 (19 U.S.C. 2155(g)(2)). If the submitter believes that information or advice may qualify as such, the submitter—

(1) Must so designate the information or advice;

(2) Must clearly mark the material as “SUBMITTED IN CONFIDENCE” in a contrasting color ink at the top of each page of each copy; and

(3) Is encouraged to provide a non-confidential summary of the information or advice.

Pursuant to section 127(e) of the URAA (19 U.S.C. 3537(e)), USTR maintains a file on this dispute settlement proceeding, accessible to the public, in the USTR Reading Room: Room 101, Office of the United States Trade Representative, 600 17th Street, NW., Washington, DC 20508. The public file includes a listing of any comments received by USTR from the public with respect to the dispute; the U.S. submissions to the panel; the submissions, or non-confidential summaries of submissions, to the panel received from other participants in the dispute; as well as the reports of the panel and the Appellate Body. An appointment to review the public file (Docket WTO/DS-58, U.S. Sea Turtle Conservation Law) may be made by calling Brenda Webb, (202) 395-6186. The USTR Reading Room is open to the public from 9:30 a.m. to 12 noon and 1 p.m. to 4 p.m., Monday through Friday.

A. Jane Bradley,
Assistant United States Trade Representative for Monitoring and Enforcement.

[FR Doc. 00-29241 Filed 11-14-00; 8:45 am]

BILLING CODE 3190-01-P